DEPARTMENT OF LABOR

Employment and Training Administration

[TA-W-52,766]

American Suessen Corp., Charlotte, NC; Dismissal of Application for Reconsideration

Pursuant to 29 CFR 90.18(C) an application for administrative reconsideration was filed with the Director of the Division of Trade Adjustment Assistance for workers at American Suessen Corporation, Charlotte, North Carolina. The application contained no new substantial information which would bear importantly on the Department's determination. Therefore, dismissal of the application was issued.

TA-W-52,766; American Suessen Corporation (December 4, 2003)

Signed at Washington, DC this 18th day of December 2003.
Timothy Sullivan,
Director, Division of Trade Adjustment Assistance.

[FR Doc. 03-31859 Filed 12-24-03; 8:45 am]

BILLING CODE 4510-30-P